ENVIRONMENTAL PROTECTION AGENCY

[FRL-6971-4]

Science Advisory Board; Notification of Public Workshop

Notice is hereby given that the US EPA along with the US EPA Science Advisory Board (SAB), will jointly host a public Workshop on Understanding Public Values and Attitudes Related to Ecological Risk Management. The Workshop is open to the public, however, seating is limited and available on a registration basis. In most instances, SAB meetings are subject to the Federal Advisory Committee Act which includes opportunities for public comment. However, since this meeting meets the requirements of 41 CFR 101-6.1004, the provisions of the Federal Advisory Committee Act (Public Law 92-463) do not apply. Therefore, we are not soliciting public comments during this non-FACA Workshop.

Time and Location—The Workshop will be held on May 23-24, 2001 at the Academy for Educational Development, 1825 Connecticut Avenue, NW., Washington, DC, Telephone 202-884-8000. Registration is from 8:30-9:00 am on May 23. The Workshop will begin at 9:00 am each day, ending at 5:00 pm on May 23 and no later than 12:15 pm on May 24.

Purpose of the Workshop—To demonstrate how researchers using different kinds of analytical methods, tools and approaches from the social sciences can mutually inform each other and risk managers in understanding: (a) public values and attitudes related to specific threats to ecological resources, such as a specific water body threatened with nitrogen deposition and (b) the significance of those values.

The Workshop will focus on a particular waterbody, Tampa Bay Estuary, and will provide an opportunity for four researchers in the social sciences to address the following questions in terms that are relevant to and readily comprehendible to Agency management:

Given that the state of knowledge about ecological and human health effects of nitrogen deposition are fairly well known in the Tampa Bay Estuary, (a) Why do people care about protecting waterbodies against current problems and preventing further nitrogen deposition? and (b) How can EPA move beyond current economic considerations, per se, to identify and evaluate/measure why and how much people care about protecting the resource?

Workshop Agenda—A written agenda is available on the SAB website (see below). The first day of Workshop will include an introduction followed by four presentations of Research Plans commissioned on the issue. These proposals would demonstrate how different social science approaches (in the disciplines of anthropology, decision sciences, economics, and social psychology) could help decision makers at EPA and outside understand values, attitudes and decision factors related to protection of Tampa Bay against nitrogen deposition. There would be a short time following each presentation for a facilitated discussion.

The morning of the second day will feature a panel of managers who will discuss their reactions to the expert presentations. They would focus on the potential usefulness of the research proposals presented, whether and how they add value to information currently available to decision makers for making decisions, communicating decisions, and justifying decisions about ecological risk management.

FOR FURTHER INFORMATION CONTACT: To register for the Workshop, please send the following information via email to: Brian Heninger at heninger.brian@epa.gov by May 15: name; affiliation; address; phone; fax; e-mail address; occupation; area of expertise; and what aspects of this Workshop interest you the most.

Any member of the public wishing further information concerning this Workshop should consult the website for this Workshop at http://www.epa.gov/sab/presentation-1/index.htm. Questions concerning this Workshop can be directed to Dr. Angela Nugent, Special Assistant, EPA Science Advisory Board, (202) 564-4562 or nugent.angela@epa.gov.

Dated: April 18, 2001.
Donald G. Barnes,
Staff Director, Science Advisory Board.

[FR Doc. 01-10514 Filed 4-26-01; 8:45 am]

BILLING CODE 6560-50-P